DEPARTMENT OF HOMELAND SECURITY

Transportation Security Administration

[Docket No. TSA-2004-19845]

Privacy Act of 1974: Systems of Records

AGENCY: Transportation Security Administration (TSA), DHS.

ACTION: Notice to establish or alter systems of records; request for comments.

SUMMARY: TSA is establishing three new systems of records and altering three established systems of records under the Privacy Act of 1974.

DATES: Submit comments by January 10, 2005.

ADDRESSES: Address or deliver your written, signed comments to the Docket Management System, U.S. Department of Transportation, Room Plaza 401, 400 Seventh Street, SW., Washington, DC 20590-0001.

You may also submit comments through the Internet to http://dms.dot.gov. Please be aware that anyone is able to search the electronic form of all comments received into any of our dockets by the name of the individual submitting the comment (or signing the comment, if submitted on behalf of an association, business, labor union, etc.). You may review the applicable Privacy Act Statement in the Federal Register published on April 11, 2000 (65 FR 19477) or you may visit http://dms.dot.gov.

You may review the public docket containing comments in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Lisa S. Dean, Privacy Officer, Office of Transportation Security Policy, TSA-9, 601 South 12th Street, Arlington, VA 22202-4220; telephone (571) 227-3947; facsimile (571) 227-2555.

SUPPLEMENTARY INFORMATION:

Document Availability

You can get an electronic copy using the Internet by—

(1) Searching the Department of Transportation's electronic Docket Management System (DMS) web page (http://dms.dot.gov/search);

(2) Accessing the Government Printing Office's Web page at http://www.access.gpo.gov/su_docs/aces/aces140.html; or

(3) Visiting the TSA's Law and Policy Web page at http://www.tsa.dot.gov/public/index.jsp.

In addition, copies are available by writing or calling the individual in the FOR FURTHER INFORMATION CONTACT section. Make sure to identify the docket number of this notice.

Background

TSA is establishing three new systems of records under the Privacy Act of 1974: Employee Transportation Facilitation Records (DHS/TSA 003), Transportation Security Administration Notification Contact Lists (DHS/TSA 008), and Transportation Security Intelligence Service Operations Files (DHS/TSA 011). TSA is also altering three established system of records: The Transportation Security Enforcement Record System (DHS/TSA 001) by expanding the system purpose to cover criminal enforcement actions, adding a new category of individuals covered by the system, adding a new routine use to cover security incidents by members of the armed forces, and adding the (j)(2) general law enforcement exemption; the Personnel Background Investigation File System (DHS/TSA 004) by adding the (k)(1) specific exemption for classified information; and the Internal Investigation Record System (DHS/TSA 005) by adding the (j)(2) general law enforcement exemption and expanding the purpose to cover investigations of security-related incidents and reviews of TSA programs and operations. Each of the three altered systems of records (DHS/TSA 001, 004, and 005) is also gaining routine uses to allow for the disclosure of information to an appropriate agency or transportation facility operator when necessary to address threats to transportation security and an existing routine use has been amended to allow for the disclosure of records to state and local transportation agencies when compatible with the purposes for which the information was collected. The complete revised notice of each system of records follows.

DHS/TSA 001

System name:

Transportation Security Enforcement Record System (TSERS).

Security classification:

Classified, sensitive.

System location:

Records are maintained in the Office of Chief Counsel and in the Office of the Assistant Administrator for Aviation Operations, Transportation Security Administration (TSA) Headquarters in Arlington, Virginia. Records will also be maintained at the various TSA field offices.

Categories of individuals covered by the system:

Owners, operators, and employees in all modes of transportation for which TSA has security-related duties; witnesses; passengers undergoing screening of their person or property; individuals against whom investigative, administrative, or legal enforcement action has been initiated for violation of certain Transportation Security Administration Regulations (TSR), relevant provisions of 49 U.S.C. Chapter 449, or other laws; individuals being investigated or prosecuted for violations of criminal law; and individuals who communicate security incidents, potential security incidents, or otherwise suspicious activities.

Categories of records in the system:

Information related to the screening of passengers and property and the investigation or prosecution of any alleged violation, including name of and demographic information about alleged violators and witnesses; place of violation; Enforcement Investigative Reports (EIRs); security incident reports, screening reports, suspicious-activity reports and other incident or investigative reports; statements of alleged violators and witnesses; proposed penalty; investigators' analyses and work papers; enforcement actions taken; findings; documentation of physical evidence; correspondence of TSA employees and others in enforcement cases; pleadings and other court filings; legal opinions and attorney work papers; and information obtained from various law enforcement or prosecuting authorities relating to the enforcement of criminal laws.

Authority for maintenance of the system:

49 U.S.C. 114(d), 44901, 44903, 44916, 46101, 46301.

Purpose(s):

The records are created in order to maintain a civil enforcement and inspections system for all modes of transportation for which TSA has security related duties and to maintain records related to the investigation or prosecution of violations or potential violations of federal, state, local, or international criminal law. They may be used, generally, to identify, review, analyze, investigate, and prosecute violations or potential violations of transportation security laws or other laws as well as to identify and address potential threats to transportation security. They may also be used to record the details of TSA security-related activity, such as passenger or baggage screening.

Routine uses of records maintained in the system, including categories of users and the purposes of such uses:

(1) To the United States Department of Transportation, its operating administrations, or the appropriate state or local agency when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To the appropriate Federal, State, local, tribal, territorial, foreign, or international agency regarding individuals who pose or are suspected of posing a risk to transportation or national security.

(4) To contractors, grantees, experts, consultants, or other like persons when necessary to perform a function or service related to this system of records for which they have been engaged. Such recipients are required to comply with the Privacy Act, 5 U.S.C. 552a, as amended.

(5) To a Federal, State, local, tribal, territorial, foreign, or international agency, where such agency has requested information relevant or necessary for the hiring or retention of an individual, or the issuance of a security clearance, license, contract, grant, or other benefit.

(6) To a Federal, State, local, tribal, territorial, foreign, or international agency, if necessary to obtain information relevant to a TSA decision concerning the hiring or retention of an employee, the issuance of a security clearance, license, contract, grant, or other benefit.

(7) To international and foreign governmental authorities in accordance with law and formal or informal international agreement.

(8) To third parties during the course of an investigation into violations or potential violations of transportation security laws to the extent necessary to obtain information pertinent to the investigation.

(9) To airport operators, aircraft operators, and maritime and land transportation operators about individuals who are their employees, job applicants, or contractors, or persons to whom they issue identification credentials or grant clearances to secured areas in transportation facilities when relevant to such employment, application, contract, or the issuance of such credentials or clearances.

(10) To the Department of Justice (DOJ) or other Federal agency in the review, settlement, defense, and prosecution of claims, complaints, and lawsuits involving matters over which TSA exercises jurisdiction or when conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(11) To a congressional office from the record of an individual in response to an inquiry from that congressional office made at the request of the individual.

(12) To the National Archives and Records Administration or other appropriate Federal agency in records management inspections being conducted under the authority of 44 U.S.C. 2904 and 2906.

(13) To any agency or instrumentality charged under applicable law with the protection of the public health or safety under exigent circumstances where the public health or safety is at risk.

(14) To the Department of Justice, United States Attorney's Office, or other appropriate Federal agency for further collection action on any delinquent debt when circumstances warrant, or to a debt collection agency for the purpose of debt collection.

(15) With respect to members of the armed forces who may have violated aviation security or safety requirements, disclose the individual's identifying information and details of their travel on the date of the incident in question to the appropriate branch of the armed forces to the extent necessary to determine whether the individual was performing official duties at the time of the incident. Members of the armed forces include active duty and reserve members, and members of the National Guard. This routine use is intended to permit TSA to determine whether the potential violation must be referred to the appropriate branch of the armed forces for action pursuant to 49 U.S.C. 46101(b).

(16) To airport operators, aircraft operators, and/or maritime and land transportation operators when appropriate to address a threat or potential threat to transportation security, or when required for administrative purposes related to the effective and efficient administration of transportation security laws.

Disclosure to consumer reporting agencies:

Pursuant to 5 U.S.C. 552a(b)(12), disclosures may be made from this system to consumer reporting agencies collecting on behalf of the United States Government.

Policies and practices for storing, retrieving, accessing, retaining, and disposing of records in the system:

Storage:

Records are maintained on paper and in computer-accessible storage media. Records are also stored on microfiche and roll microfilm.

Retrievability:

Records are retrieved by name, address, social security account number, administrative action or legal enforcement numbers, or other assigned identifier of the individual on whom the records are maintained.

Safeguards:

Information in this system is safeguarded in accordance with applicable laws, rules and policies. All records are protected from unauthorized access through appropriate administrative, physical, and technical safeguards. These safeguards include restricting access to authorized personnel who also have a need-to-know; using locks, alarm devices, and passwords; and encrypting data communications. Strict control measures are enforced to ensure that access to classified and/or sensitive information in these records is also based on “need to know.” Electronic access is limited by computer security measures that are strictly enforced. TSA file areas are locked after normal duty hours and the facilities are protected from the outside by security personnel.

Retention and disposal:

National Archives and Records Administration approval is pending for the records in this system. Once approved, paper records and information stored on electronic storage media are to be maintained within TSA for five years and then forwarded to Federal Records Center. Records are destroyed after ten years.

System manager and address:

Information Systems Program Manager, Office of the Chief Counsel, TSA Headquarters, TSA-2, 601 South 12th Street, Arlington, VA 22202-4220.

Notification procedure:

To determine whether this system contains records relating to you, write to the System Manager identified above.

Record access procedure:

Same as “Notification Procedures” above. Provide your full name and a description of information that you seek, including the time frame during which the record(s) may have been generated. Individuals requesting access must comply with the Department of Homeland Security Privacy Act regulations on verification of identity (6 CFR 5.21(d)).

Contesting record procedures:

Same as “Notification Procedure” and “Record Access Procedure,” above.

Record source categories:

Information contained in this system is obtained from the alleged violator, TSA employees or contractors, witnesses to the alleged violation or events surrounding the alleged violation, other third parties who provided information regarding the alleged violation, state and local agencies, other Federal agencies, and law enforcement authorities.

Exemptions claimed for the system:

Portions of this system are exempt under 5 U.S.C. 552a(k)(1) and (k)(2). Portions of the system pertaining to investigations or prosecutions of violations of criminal law are exempt under 5 U.S.C. 552a(j)(2).

DHS/TSA 003

System name:

Employee Transportation Facilitation Records

Security classification:

Unclassified, sensitive.

System location:

Records are maintained in the Office of Real Estate Services, TSA Headquarters in Arlington, Virginia; at various TSA field offices, the DOT Headquarters Parking and Transit Office in Washington, DC; and at a digital safe site managed by a government contractor.

Categories of individuals covered by the system:

Applicants or holders of parking permits, members of carpools and vanpools, applicants for ridesharing information, applicants or recipients of transit benefits, applicants or recipients of parking subsidies issued under the Parking Information Payment System (PIPS).

Categories of records in the system:

Records of holders of parking permits; records of carpool and vanpool members; records and reports of the status of rideshare applications; applications and certifications of fare subsidy recipients; records and reports of disbursements to fare subsidy recipients; information collected related to the payment of parking subsidies; records and reports of disbursements to parking subsidy recipients; information necessary to establish direct debit payment when appropriate. These records may include an individual's name, title, social security number, duty station, commuter costs, method of commute, subsidy amount, bank account information, and the identities of other carpool members.

Authority for maintenance of the system:

5 U.S.C. 301; 49 U.S.C. 114; E.O. 13150; E.O. 9397.

Purpose(s):

Records are maintained to facilitate management of parking resources, transportation resources and subsidy benefits, to create and enlarge carpools and vanpools, to ensure employee eligibility for any benefits received, to contact employees regarding matters related to these programs, and to prevent the misuse of government resources.

Routine uses of records maintained in the system, including categories of users and the purposes of such uses:

(1) To contractors, grantees, experts, consultants, or other like persons when necessary to perform a function or service related to this system of records for which they have been engaged. Such recipients are required to comply with the Privacy Act, 5 U.S.C. 552a, as amended.

(2) To transportation facility operators when necessary to perform a function or service related to this system of records or to determine program eligibility.

(3) To the Department of Transportation (DOT) or other Federal, State, local, tribal, or territorial agencies when necessary to perform a function or service related to this system of records or to determine program eligibility, which may involve the use of an authorized computer matching program.

(4) To the appropriate Federal, State, local, tribal, territorial, foreign, or international agency responsible for investigating, prosecuting, enforcing, or implementing a statute, rule, regulation, or order, where TSA becomes aware of an indication of a violation or potential violation of civil or criminal law or regulation.

(5) To the Department of Justice (DOJ) or other Federal agency in the review, settlement, defense, and prosecution of claims, complaints, and lawsuits involving matters over which TSA exercises jurisdiction or when conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(6) To a congressional office from the record of an individual in response to an inquiry from that congressional office made at the request of the individual.

(7) To the National Archives and Records Administration or other appropriate Federal agency in records management inspections being conducted under the authority of 44 U.S.C. 2904 and 2906.

(8) To other Federal employees or persons voluntarily participating in ridesharing programs only to the extent necessary for the operation of these programs.

(9) To the Department of Justice, United States Attorney's Office, or other Federal agencies for further collection action on any delinquent debt when circumstances warrant, or to a debt collection agency for the purpose of debt collection.

Disclosures to consumer reporting agencies:

Pursuant to 5 U.S.C. 552a(b)(12), disclosures may be made from this system to consumer reporting agencies collecting on behalf of the United States Government.

Policies and practices for storing, retrieving, accessing, retaining, and disposing of records in the system:

Storage:

Records are stored in hard copy or in electronic format on a system database.

Retrievability:

Records are retrieved by name, address, social security number, permit number, or other assigned identifier of the individual on whom the records are maintained.

Safeguards:

Except for carpool listings, access is accorded only to parking and fare subsidy management offices. Printouts of carpool listings contain only name, agency, and work telephone number. Information in this system is safeguarded in accordance with applicable laws, rules and policies. All records are protected from unauthorized access through appropriate administrative, physical, and technical safeguards. Control measures are enforced to ensure that access to sensitive information in these records, such as Social Security Numbers, is based on a “need to know.”

Retention and disposal:

Records in this system will be retained in accordance with a schedule to be approved by the National Archives and Records Administration.

System manager(s) and address:

Transportation Benefits Coordinator, Office of Real Estate Services, TSA Headquarters, TSA-17, 601 South 12th Street, Arlington, VA 22202-4220.

Notification procedure:

To determine whether this system contains records relating to you, write to the System Manager identified above.

Record access procedure:

Same as “Notification Procedure,” above. Provide your full name and a description of information that you seek, including the time frame during which the record(s) may have been generated. Individuals requesting access must comply with the Department of Homeland Security Privacy Act regulations on verification of identity (6 CFR 5.21(d)).

Contesting record procedure:

Same as “Notification Procedure” and “Record Access Procedure,” above.

Record source categories:

Information contained in this system is obtained from employees participating in parking, ridesharing, and transit benefits programs, from notifications from other Federal agencies in the program, and from periodic certifications and reports regarding fare subsidies.

Exemptions claimed for the system:

None.

DHS/TSA 004

System Name:

Personnel Background Investigation File System

Security classification:

Classified, Sensitive.

System location:

Records are maintained at the offices of the Transportation Security Administration Headquarters located in Arlington, Virginia. Some records may also be maintained at the offices of a TSA contractor or in TSA field offices.

Categories of individuals covered by the system:

Current and former TSA employees, applicants for TSA employment, and TSA contract employees.

Categories of records in the system:

The system contains an index reference record used to track the status of an applicant's background investigation, Standard Form 85P—“Questionnaire For Public Trust Positions,” investigative summaries and compilations of criminal history record checks, and administrative records and correspondence incidental to the background investigation process.

Authority for maintenance of the system:

5 U.S.C. 3301, 3302; 49 U.S.C. 114, 44935; 5 CFR Parts 731, 732, and 736; and Executive Orders 10450, 10577, and 12968.

Purpose(s):

The system will maintain investigative and background records used to make suitability and eligibility determinations for the individuals listed under “Categories of individuals.”

Routine uses of records maintained in the system, including categories of users and the purposes of such uses:

(1) To the United States Department of Transportation, its operating administrations, or the appropriate state or local agency when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) Except as noted in Question 14 of the Questionnaire for Public Trust Positions, to the appropriate Federal, State, local, tribal, territorial, foreign, or international agency responsible for investigating, prosecuting, enforcing, or implementing a statute, rule, regulation, or order, where TSA becomes aware of an indication of a violation or potential violation of civil or criminal law or regulation.

(3) To the appropriate Federal, State, local, tribal, territorial, foreign, or international agency regarding individuals who pose or are suspected of posing a risk to transportation or national security.

(4) To contractors, grantees, experts, consultants, or other like persons when necessary to perform a function or service related to this record for which they have been engaged. Such recipients shall be required to comply with the Privacy Act, 5 U.S.C. 552a, as amended.

(5) To a Federal, State, local, tribal, territorial, foreign, or international agency, where such agency has requested information relevant or necessary for the hiring or retention of an individual, or the issuance of a security clearance, license, contract, grant, or other benefit.

(6) To a Federal, State, local, tribal, territorial, foreign, or international agency, if necessary to obtain information relevant to a TSA decision concerning the hiring or retention of an employee, the issuance of a security clearance, license, contract, grant, or other benefit.

(7) To international and foreign governmental authorities in accordance with law and formal or informal international agreement.

(8) To third parties during the course of an investigation into violations or potential violations of transportation security laws to the extent necessary to obtain information pertinent to the investigation.

(9) To airport operators, aircraft operators, and maritime and land transportation operators about individuals who are their employees, job applicants, or contractors, or persons to whom they issue identification credentials or grant clearances to secured areas in transportation facilities when relevant to such employment, application, contract, or the issuance of such credentials or clearances.

(10) To the Department of Justice (DOJ) or other Federal agency in the review, settlement, defense, and prosecution of claims, complaints, and lawsuits involving matters over which TSA exercises jurisdiction or when conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(11) To a congressional office from the record of an individual in response to an inquiry from that congressional office made at the request of the individual.

(12) To the National Archives and Records Administration or other appropriate Federal agency in records management inspections being conducted under the authority of 44 U.S.C. 2904 and 2906.

Disclosure to Consumer Reporting Agencies:

None.

Policies and Practices for Storing, Retrieving, Accessing, Retaining, and Disposing of Records in the System:

Storage:

Records are maintained on paper and in computer-accessible storage media. Records are also stored on microfiche and roll microfilm.

Retrievability:

Records are retrieved by name, address, and social security account number or other assigned tracking identifier of the individual on whom the records are maintained.

Safeguards:

Access to TSA working and storage areas is restricted to employees on a “need to know” basis. Strict control measures are enforced to ensure that access to these records is also based on “need to know.” Generally, TSA file areas are locked after normal duty hours and the facilities are protected from the outside by security personnel.

Retention and disposal:

Paper records and information stored on electronic storage are destroyed upon notification of death or not later than 5 years after separation or transfer of employee or no later than 5 years after contract relationship expires, whichever is applicable.

System manager and address:

Director of Transportation Credentialing, TSA Headquarters, TSA-19, 601 South 12th Street, Arlington, VA 22202-4220.

Notification procedure:

To determine whether this system contains records relating to you, write to the System Manager identified above.

Record access procedure:

Same as “Notification Procedure” above. Provide your full name and a description of information that you seek, including the time frame during which the record(s) may have been generated. Individuals requesting access must comply with the Department of Homeland Security Privacy Act regulations on verification of identity (6 CFR 5.21(d)).

Contesting record procedure:

Same as “Notification Procedure” and “Record Access Procedure,” above.

Record source categories:

Information contained in this system is obtained from the job applicant on the Questionnaire For Public Trust Positions, law enforcement and intelligence agency record systems, publicly available government records and commercial databases.

Exemptions claimed for the system:

Portions of this system are exempt under 5 U.S.C. 552a(k)(1) and (k)(5).

DHS/TSA 005

System name:

Internal Investigation Record System (IIRS)

Security classification:

Classified, sensitive.

System location:

Records are maintained in the Office of the Assistant Administrator for Internal Affairs and Program Review and the Office of the Assistant Administrator for Human Resources, Transportation Security Administration (TSA) Headquarters in Arlington, Virginia. Records may also be maintained at TSA's Office of Chief Counsel, the Office of the Assistant Administrator for Aviation Operations, or at various TSA field offices.

Categories of individuals covered by the system:

(a) Current and former TSA employees and current and former consultants, contractors, and subcontractors with whom the agency has done business, and their employees; (b) Witnesses, complainants, and other individuals who have been identified as relevant to the investigation; (c) Individuals who have been identified as relevant to investigations of security-related incidents or reviews of TSA programs and operations.

Categories of records in the system:

(a) Information relating to investigations conducted by TSA regarding or relevant to covered individuals, including but not limited to identifying information of relevant parties (e.g., subject, complainants, witnesses); correspondence; memoranda (including legal opinions or advice provided by agency counsel); statements and other information provided by investigation subjects, complainants, witnesses, or others; details of security-related incidents or alleged criminal, civil, or administrative misconduct, or that are indicative of such misconduct; and records concerning an individual's employment status or conduct while employed by TSA. “Investigation” may include action that is taken in response to complaints or inquiries regarding covered individuals.

(b) Files and reports pertaining to investigations prepared by the Office of Internal Affairs and Program Review or other TSA offices, to include all related material such as exhibits, statements, affidavits, records obtained during the course of the investigation (including those obtained from other sources, such as Federal, State, local, international, or foreign investigatory or law enforcement agencies and other government agencies), and records involving the disposition of the investigation and any resulting agency action (e.g., criminal prosecutions, civil proceedings, administrative action).

Authority for maintenance of the system:

49 U.S.C. 114.

Purpose(s):

(a) To facilitate and assist in the management, tracking, and retrieval of investigations of allegations or appearances of misconduct (and related incidents) of current or former TSA employees or contractors and investigations of security-related incidents or reviews of TSA programs and operations.

(b) To promote economy, efficiency, and effectiveness of the Internal Investigation system, to conduct and supervise investigations covered by this system, and to detect fraud and abuse in the investigations program.

(c) To provide support for any adverse action or counseling that may occur as a result of the findings of the investigation.

(d) To monitor case assignment, disposition, status, and results of investigations.

(e) To permit the retrieval of investigation results performed on the individuals covered in this system.

(f) To take action on or respond to a complaint or inquiry concerning a TSA employee or contractor.

Routine uses of records maintained in the system, including categories of users and the purposes of such uses:

(1) To the United States Department of Transportation, its operating administrations, or the appropriate state or local agency when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To the appropriate Federal, State, local, tribal, territorial, foreign, or international agency regarding individuals who pose or are suspected of posing a risk to transportation or national security.

(4) To contractors, grantees, experts, consultants, or other like persons when necessary to perform a function or service related to this system of records for which they have been engaged. Such recipients are required to comply with the Privacy Act, 5 U.S.C. 552a, as amended.

(5) To a Federal, State, local, tribal, territorial, foreign, or international agency, where such agency has requested information relevant or necessary for the hiring or retention of an individual, or the issuance of a security clearance, license, contract, grant, or other benefit.

(6) To a Federal, State, local, tribal, territorial, foreign, or international agency, if necessary to obtain information relevant to a TSA decision concerning the hiring or retention of an employee, the issuance of a security clearance, license, contract, grant, or other benefit.

(7) To international and foreign governmental authorities in accordance with law and formal or informal international agreement.

(8) To third parties during the course of an investigation into violations or potential violations of transportation security laws to the extent necessary to obtain information pertinent to the investigation.

(9) To airport operators, aircraft operators, and maritime and land transportation operators about individuals who are their employees, job applicants, or contractors, or persons to whom they issue identification credentials or grant clearances to secured areas in transportation facilities when relevant to such employment, application, contract, or the issuance of such credentials or clearances.

(10) To the Department of Justice (DOJ) or other Federal agency in the review, settlement, defense, and prosecution of claims, complaints, and lawsuits involving matters over which TSA exercises jurisdiction or when conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(11) To a congressional office from the record of an individual in response to an inquiry from that congressional office made at the request of the individual.

(12) To the National Archives and Records Administration or other appropriate Federal agency in records management inspections being conducted under the authority of 44 U.S.C. 2904 and 2906.

(13) To complainants to the extent necessary to provide such persons with relevant information and explanations concerning the progress and/or results of the investigation or case arising from the matters about which they complained.

(14) To professional organizations or associations with which individuals covered by this system of records may be affiliated, such as law enforcement disciplinary authorities, to meet those organizations' responsibilities in connection with the administration and maintenance of standards of conduct and discipline.

(15) To airport operators, aircraft operators, and/or maritime and land transportation operators when appropriate to address a threat or potential threat to transportation security, or when required for administrative purposes related to the effective and efficient administration of transportation security laws.

Disclosure to consumer reporting agencies:

None.

Policies and practices for storing, retrieving, accessing, retaining, and disposing of records in the system:

Storage:

In electronic storage media and hard copy.

Retrievability:

Records may be retrieved by name, unique numbers assigned to the matter, or other assigned tracking identifier of the individual on whom the records are maintained.

Safeguards:

Information in this system is safeguarded in accordance with applicable laws, rules and policies. All records are protected from unauthorized access through appropriate administrative, physical, and technical safeguards. These safeguards include restricting access to those authorized with a need to know and using locked cabinets, alarms, and passwords. TSA file areas are locked after normal duty hours and the facilities are protected from the outside by security personnel.

Retention and disposal:

National Archives and Records Administration approval is pending for the records in this system. The request states that paper records and information stored on electronic storage media are maintained within the Office of Internal Affairs and Program Review for 3 years and then forwarded to the Federal Records Center. Records are destroyed after 15 years. The disposition period for records maintained in other offices is still under consideration.

System managers and addresses:

Management Analyst, Office of Internal Affairs and Program Review, TSA Headquarters, TSA-13, 601 South 12th Street, Arlington, VA 22202-4220.

Deputy Assistant Administrator for Operations, TSA Office of Human Resources, TSA Headquarters, TSA-21, 601 South 12th Street, Arlington, VA 22202-4220.

Notification procedure:

To determine whether this system contains records relating to you, write to the System Managers identified above.

Record access procedure:

Same as “Notification Procedure” above. Provide your full name and a description of information that you seek, including the time frame during which the records(s) may have been generated and, if applicable the airport to which the covered individual was assigned at the time of the conduct or incident under investigation. Individuals requesting access must comply with the Department of Homeland Security's Privacy Act regulations on verification of identity (6 CFR 5.21(d)).

Contesting record procedure:

Same a “Notification Procedure” and “Record Access Procedure,” above.

Record source categories:

Information maintained in this system is primarily obtained from individuals associated with TSA investigations including investigations of alleged misconduct of TSA employees or contractors and investigations of security-related incidents or reviews of TSA programs and operations. “Individuals” include TSA employees or contractors, witnesses to the alleged violation or events surrounding the alleged misconduct or other third parties who provided information regarding the alleged misconduct and passengers or others relevant to security-related incidents or reviews of TSA programs and operations. Information may also be collected from documents such as incident reports and audit reports, and from other sources, such as law enforcement, financial institutions, employers, state and local agencies, and other Federal agencies.

Exemptions claimed for the system:

Portions of this system are exempt under 5 U.S.C. 552a(j)(2), (k)(1), and (k)(2).

DHS/TSA 008

System name:

Transportation Security Administration Notification Contact Lists

Security classification:

Unclassified, sensitive.

System location:

The records of this system are electronically maintained in a digital safe site at TSA Headquarters in Northern Virginia.

Categories of individuals covered by the system:

TSA employees and individuals who interact with TSA in providing transportation security services, including land, air, and maritime carrier and facility operators, local government officials, law enforcement officials, and emergency response personnel. Members of the public or the news media who ask to receive TSA travel alert notifications and news releases.

Categories of records in the system:

Personal and business contact information, which includes but is not limited to name, work title, work location, work phone numbers, pager numbers, cellular phone numbers, home phone numbers, e-mail addresses, and home addresses.

Authority for maintenance of the system:

5 U.S.C. 301, 49 U.S.C. 114, Pub. L. 107-347.

Purposes(s):

The system of records is designed to allow TSA to relay information throughout the organization, to transportation security emergency first responders, and to those individuals who ask to receive TSA travel alert notifications and news releases.

Routine uses of records maintained in the system, including categories of users and the purposes of such uses:

(1) To the United States Department of Transportation, its operating administrations, or the appropriate state or local agency when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To contractors, grantees, experts, consultants, or other like persons when necessary to perform a function or service related to this system of records for which they have been engaged. Such recipients are required to comply with the Privacy Act, 5 U.S.C. 552a, as amended.

(3) To the National Archives and Records Administration or other appropriate Federal agency in records management inspections being conducted under the authority of 44 U.S.C. 2904 and 2906.

(4) To any agency or instrumentality charged under applicable law with the protection of the public health or safety under exigent circumstances where the public health or safety is at risk.

(5) To the appropriate Federal, State, local, tribal, territorial, foreign, or international agency responsible for investigating, prosecuting, enforcing, or implementing a statute, rule, regulation, or order, where TSA becomes aware of an indication of a violation or potential violation of civil or criminal law or regulation.

(6) To airport operators, aircraft operators, and/or maritime and land transportation operators when appropriate to address a threat or potential threat to transportation security, or when required for administrative purposes related to the effective and efficient administration of transportation security laws.

Disclosure to consumer reporting agencies:

None.

Policies and practices for storing, retrieving, accessing, retaining, and disposing of records in the system:

Storage:

Records are maintained in computer-accessible storage media and hardcopy format.

Retrievability:

Records are retrieved by name, address, or other assigned identifier of the individual on whom the records are maintained.

Safeguards:

Information in this system is safeguarded in accordance with applicable laws, rules and policies. All records are protected from unauthorized access through appropriate administrative, physical, and technical safeguards. These safeguards include restricting access to authorized personnel who have a need-to-know by using locks, alarm devices, passwords, and encrypting data communications. Electronic access is limited by computer security measures that are strictly enforced. TSA file areas are locked after normal duty hours and facilities are protected by security personnel.

Retention and disposal:

Records in this system will be retained in accordance with a schedule to be approved by the National Archives and Records Administration. Individuals who ask to receive TSA notifications and news releases will be deactivated from the contact list upon their own request.

System managers and addresses:

TSA Office of Information Technology, Office of the Chief Information Officer, TSA Headquarters, TSA-11, 601 South 12th Street, Arlington, VA 22202-4220 (TSA Employee Contact List and TSA Alert Notification System). TSA Public Affairs Office, TSA Headquarters, TSA-4, 601 South 12th Street, Arlington, VA 22202-4220 (Public Affairs News Releases). TSA Transportation Security Policy Office, TSA Headquarters, TSA-9, 601 South 12th Street, Arlington, VA 22202-4220 (E-mail Travel Alert Notification List).

Notification procedure:

To determine whether a contact list within this system contains records relating to you, write to the appropriate System Manager(s) identified above.

Record access procedure:

Same as “Notification Procedure,” above. Provide your full name and a description of information that you seek, including the time frame during which the record(s) may have been generated. Individuals requesting access must comply with the Department of Homeland Security Privacy Act regulations on verification of identity (6 CFR 5.21(d)).

Contesting record procedure:

Same as “Notification Procedure” and “Record Access Procedure,” above.

Record source categories:

Information contained in this system is obtained from TSA Human Resources, TSA employees or contractors, other government agencies, and by individuals who voluntarily sign-up to receive TSA notifications or news releases.

Exemptions claimed for the system:

None.

DHS/TSA 011

System name:

Transportation Security Intelligence Service (TSIS) Operations Files

Security classification:

Classified, sensitive.

System location:

Records are maintained in TSA's Office of the Transportation Security Intelligence Service in Washington, DC.

Categories of individuals covered by the system:

Individuals identified in intelligence, counterintelligence, transportation security, or information system security reports and supporting materials, including but not limited to individuals involved in matters of intelligence, law enforcement or transportation security, information systems security, the compromise of classified information, or terrorism.

Categories of records in the system:

Records include biographic information; intelligence requirements, analysis, and reporting; information systems security analysis and reporting; articles, public-source data, and other published information on individuals and events of interest to TSA/TSIS; actual or purported compromises of classified intelligence; countermeasures in connection therewith; identification of classified source documents and distribution thereof; records related to transportation security matters (e.g., reports of security-related incidents), and law enforcement records as they pertain to issues involving transportation security.

Authority for maintenance of the system:

49 U.S.C. 114; National Security Act of 1947, as amended, 50 U.S.C. 403-3(d)(2); National Security Agency Act of 1959, Pub. L. 86-36, as amended, 50 U.S.C. 402 Note; E.O. 12333; E.O. 13292 and 12958; E.O. 9397; and National Security Directive 42.

Purpose(s):

To maintain records on intelligence, counterintelligence, transportation security, and information systems security matters as they relate to TSA's mission of protecting the nation's transportation systems. To identify potential threats to transportation security, uphold and enforce the law, and ensure public safety.

Routine uses of records maintained in the system, including categories of users and the purposes of such uses:

(1) To U.S. Government agencies, and in some instances foreign government agencies or their representatives, to provide intelligence, counterintelligence, information systems and transportation security information, and other information for the purpose of counterintelligence or antiterrorism activities authorized by U.S. law or Executive Order or for the purpose of enforcing laws that protect national and transportation security of the U.S.

(2) To U.S. Government agencies regarding compromises of classified information including the document(s) apparently compromised, implications of disclosure of intelligence sources and methods, investigative data on compromises, and statistical and substantive analysis of the data.

(3) To any U.S. Government organization in order to facilitate any security, employment, detail, liaison, or contractual decision by any U.S. Government organization, or to facilitate access to any U.S. Government information system.

(4) To U.S. agencies involved in the protection of intelligence sources and methods to facilitate such protection and to support intelligence analysis and reporting.

(5) To the appropriate Federal, State, local, tribal, territorial, foreign, or international agency responsible for investigating, prosecuting, enforcing, or implementing a statute, rule, regulation, or order, where TSA becomes aware of an indication of a violation or potential violation of civil or criminal law or regulation.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary to obtain information relevant to a TSA decision concerning the hiring or retention of an employee, the issuance of a security clearance, license, contract, grant, or other benefit.

(8) To a congressional office from the record of an individual in response to an inquiry from that congressional office made at the request of the individual.

(9) To international and foreign governmental authorities in accordance with law and formal or informal international agreement.

(10) To the Department of Justice (DOJ) or other Federal agency in the review, settlement, defense, and prosecution of claims, complaints, and lawsuits involving matters over which TSA exercises jurisdiction or when conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(11) To the National Archives and Records Administration or other appropriate Federal agency in records management inspections being conducted under the authority of 44 U.S.C. 2904 and 2906.

(12) To the United States Department of Transportation, its operating administrations, or the appropriate state or local agency when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(13) To contractors, grantees, experts, consultants, or other like persons when necessary to perform a function or service related to this system of records for which they have been engaged. Such recipients are required to comply with the Privacy Act, 5 U.S.C. 552a, as amended.

(14) To third parties during the course of or as follow-up to an investigation into violations or potential violations of the law, or an investigation related to the hiring or retention of an individual, or the issuance of a security clearance, license, contract, grant, or other benefit, to the extent necessary to obtain information pertinent to the follow-up inquiry or investigation.

(15) To airport operators, aircraft operators, and maritime and land transportation operators about individuals who are their employees, job applicants, or contractors, or persons to whom they issue identification credentials or grant clearances to secured areas in transportation facilities.

(16) To the appropriate Federal, State, local, tribal, territorial, foreign, or international agency regarding individuals who pose or are suspected of posing a risk to transportation or national security.

(17) To airport operators, aircraft operators, and/or maritime and land transportation operators when appropriate to address a threat or potential threat to transportation security, or when required for administrative purposes related to the effective and efficient administration of transportation security laws.

Disclosure to consumer reporting agencies:

None.

Policies and practices for storing, retrieving, accessing, retaining, and disposing of records in the system:

Storage:

Magnetic tape, disk or other computer storage media, computer listings and databases, paper in file folders, audio recordings, microfilm or microfiche.

Retrievability:

Information is retrieved by the individual's name, social security number, or other assigned personal identifier.

Safeguards:

Records stored on paper, computer printouts, audio recordings, and microfilm are stored in secure, limited-access facilities in lockable containers. Access to this information is limited to those individuals specifically authorized and granted access by TSA/TSIS. Computer record access is controlled by passwords or physical protection and is limited to authorized personnel only.

Retention and disposal:

A request is pending for National Archives and Records Administration approval for the retention and disposal of records in this system.

System manager(s) and address:

Special Assistant, Transportation Security Intelligence Service, TSA-10, 601 South 12th Street, Arlington, VA 22202-4220.

Notification procedure:

To determine whether this system contains records relating to you, write to the System Manager identified above.

Record access procedure:

Same as “Notification Procedure,” above. Provide your full name and a description of information that you seek, including the time frame during which the record(s) may have been generated. Individuals requesting access must comply with the Department of Homeland Security Privacy Act regulations on verification of identity (6 CFR 5.21(d)).

Contesting record procedure:

Same as “Notification Procedure” and “Record Access Procedure,” above.

Record source categories:

Information contained in this system is obtained from subject individuals; other U.S. agencies and organizations; media, including periodicals, newspapers, and broadcast transcripts; public and classified reporting, intelligence source documents, investigative reports, and correspondence.

Exemptions claimed for the system:

Portions of this system are exempt under 5 U.S.C. 552a(j)(2), (k)(1), (k)(2), and (k)(5).

Issued in Arlington, Virginia, on December 3, 2004.
Lisa S. Dean,
Privacy Officer.

[FR Doc. 04-27096 Filed 12-9-04; 8:45 am]

BILLING CODE 4910-62-P